DEPARTMENT OF DEFENSE

Office of the Secretary

[Docket ID: DoD-2025-OS-0740]

Proposed Collection; Comment Request

AGENCY: United States Transportation Command (USTRANSCOM), Department of Defense (DoD).

ACTION: 60-Day information collection notice.

SUMMARY: In compliance with the Paperwork Reduction Act of 1995, the USTRANSCOM announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 26, 2026.

ADDRESSES: You may submit comments, identified by docket number and title, by any of the following methods:

Federal eRulemaking Portal: http://www.regulations.gov. Follow the instructions for submitting comments.

Mail: Department of Defense, Privacy, Civil Liberties, and Transparency Directorate, Office of the Director, Administration & Management, 4800 Mark Center Drive, Mailbox #24 Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to U.S. Transportation Command, 508 Scott, Scott AFB, IL 62225-5006, Ms. Jaime E. Bates, Telephone Number: 618-817-9950.

SUPPLEMENTARY INFORMATION:

Title; Associated Form; and OMB Number: Tender of Service for Personal Property Household Goods and Unaccompanied Baggage Shipments, DD Forms 619, 1412, 1800, 1840, 1863, 2787; OMB Number 0704-0531.

Needs and Uses: The forms entailed in this collection are used to collect data to support the private sector commercial Transportation Service Providers (TSP). The TSPs are under contract with the DoD for the shipment and storage of personal property for DoD Service Members, DoD Civilians and U.S. Coast Guard.

Affected Public: Business or other for-profit.

DD Form 619—Statement of Accessorial Services Performed

Annual Burden Hours: 11,995.

Number of Respondents: 833.

Responses per Respondent: 288.

Annual Responses: 239,904.

Average Burden per Response: 3 minutes.

DD Form 1412—Inventory of Articles Shipped in House Trailer

Annual Burden Hours: 25,268.

Number of Respondents: 833.

Responses per Respondent: 364.

Annual Responses: 303,212.

Average Burden per Response: 5 minutes.

DD Form 2787—Certificate of Warehousemen's Legal Liability Insurance

Annual Burden Hours: 25,268.

Number of Respondents: 833.

Responses per Respondent: 364.

Annual Responses: 303,212.

Average Burden per Response: 5 minutes.

DD Form 1800—Mobile Home Inspection Record

Annual Burden Hours: 25,268.

Number of Respondents: 833.

Responses per Respondent: 364.

Annual Responses: 303,212.

Average Burden per Response: 5 minutes.

DD Form 1840—Joint Statement of Loss or Damage at Delivery

Annual Burden Hours: 25,268.

Number of Respondents: 833.

Responses per Respondent: 364.

Annual Responses: 303,212.

Average Burden per Response: 5 minutes.

DD Form 1863—Accessorial Services—Mobile Homes

Annual Burden Hours: 19,992.

Number of Respondents: 833.

Responses per Respondent: 288.

Annual Responses: 239,904.

Average Burden per Response: 5 minutes.

Total

Number of Respondents: 833.

Annual Responses: 1,692,656.

Annual Burden Hours: 133,059.

Frequency: On occasion.

Dated: November 21, 2025.
Stephanie J. Bost,
Alternate OSD Federal Register Liaison Officer, Department of Defense.

[FR Doc. 2025-21168 Filed 11-25-25; 8:45 am]

BILLING CODE 6001-FR-P